ENVIRONMENTAL PROTECTION AGENCY

EPA-HQ-OA-2006-0172; FRL-8203-7]

Agency Information Collection Activities; Submission to OMB for Review and Approval; Comment Request; Smart Growth and Active Aging National Recognition Program; EPA ICR No. 2221.01, OMB Control No. 2090-New

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before August 25, 2006.

ADDRESSES: Submit your comments, referencing Docket ID No. EPA-HQ-OA-2006-0172, to: (1) EPA online using http://www.regulations.gov (our preferred method), by e-mail to oei.docket@epa.gov, or by mail to: EPA Docket Center, Environmental Protection Agency, Office of Environmental Information (OEI) Docket, Mail Code: 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Kathy Sykes, Aging Initiative, Office of Children's Health Protection and Environmental Education, Mail Code: 1107A, Environmental Protection Agency, 1200 Pennsylvania Ave., NW., Washington, DC 20460; telephone number: 202-564-3651; fax number: 202-564-2733; e-mail address: sykes.kathy@epa.gov.

SUPPLEMENTARY INFORMATION: EPA has submitted the following ICR to OMB for review and approval according to the procedures prescribed in 5 CFR 1320.12. On April 3, 2006 (71 FR 16575), EPA sought comments on this ICR pursuant to 5 CFR 1320.8(d). EPA received two comment letters during the comment period, which it reviewed and considered in finalizing the ICR. Any additional comments on this ICR should be submitted to EPA and OMB within 30 days of this notice.

EPA has established a public docket for this ICR under Docket ID No. EPA-HQ-OA-2006-0172, which is available for online viewing at http://www.regulations.gov, or in person viewing at the Office of Environmental Information Docket in the EPA Docket Center (EPA/DC), EPA West, Room B102, 1301 Constitution Ave., NW., Washington, DC. The EPA/DC Public Reading Room is open from 8 a.m. to 4:30 p.m., Monday through Friday, excluding legal holidays. The telephone number for the Reading Room is 202-566-1744, and the telephone number for the Office of Environmental Information Docket is 202-566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, CBI, or other information whose public disclosure is restricted by statute. For further information about the electronic docket, go to http://www.regulations.gov.

Title: Smart Growth and Active Aging National Recognition Program.

ICR numbers: EPA ICR No. 2221.01, OMB Control No. 2090-new.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA's Initiative on Aging is planning to launch a Smart Growth and Active Aging National Recognition Program for communities, municipalities, tribes, and counties (collectively referred to as “communities”). Communities would submit a letter to EPA indicating that their State or local Area Agency on Aging is engaged in their smart growth planning activities and active aging programs, and complete an on-line questionnaire describing their processes and programs in these two areas. The purpose of the Program is to recognize communities that excel in promoting the health and well-being of older adults through smart growth and active aging and to raise public awareness of the interconnectedness and importance of these two areas to the aging population. In addition, the on-line questionnaire would include links to helpful information on the Internet. This would assist in educating communities on available resources to help them do better in the areas where they have not met the criteria for recognition. Finally, the Program would enable EPA to compile “lessons learned” from communities that have successfully implemented smart growth and active aging principles. EPA would use this information to create a learning network on its Web site where all communities could benefit from this experience.

The Recognition Program would be voluntary. EPA expects communities to participate only if they see a benefit by doing so. A primary benefit to communities would be recognition at the national level as leaders in smart growth and active aging. National recognition would promote their image as a desirable place to live. This could help them attract residents of all ages, which could benefit the communities (e.g., economically), as well as the new residents (e.g., because they could partake of their community's amenities, such as walkable neighborhoods, fitness trails, and more transportation choices). In addition, communities that participate but are not recognized under the Program (i.e., because they do not meet the criteria for recognition) would benefit by learning about their areas for improvement, finding ways to address these areas based on links to helpful resources on the Internet, and modifying their behavior as appropriate.

Burden Statement: The annual public reporting and recordkeeping burden for this collection of information is estimated to average one hour and 45 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action are communities, municipalities, and counties that choose to participate in the Recognition Program.

Estimated Total Annual Number of Respondents on Average: 110.

Average Frequency of Response: Once.

Estimated Total Annual Burden Hours: 186 hours.

Estimated Total Annual Cost: $8,284. This includes an estimated labor cost of $8,183, an estimated operation and maintenance cost of $101, and no capital cost.

Dated: July 13, 2006.
Richard T. Westlund,
Acting Director, Collection Strategies Division.

[FR Doc. E6-11945 Filed 7-25-06; 8:45 am]

BILLING CODE 6560-50-P